DEPARTMENT OF TRANSPORTATION

Federal Aviation Administration

14 CFR Part 39

[Docket No. FAA-2010-1160; Directorate Identifier 2010-NM-148-AD]

RIN 2120-AA64

Airworthiness Directives; The Boeing Company Airplanes

AGENCY: Federal Aviation Administration (FAA), DOT.

ACTION: Supplemental notice of proposed rulemaking (SNPRM); reopening of comment period.

SUMMARY: We are revising an earlier proposed airworthiness directive (AD) to supersede an existing AD for certain The Boeing Company Model 767 airplanes. The existing AD currently requires repetitive inspections to detect discrepancies of the wiring and surrounding Teflon sleeves of the fuel tank boost pumps and override/jettison pumps; replacement of the sleeves with new sleeves, for certain airplanes; and repair or replacement of the wiring and sleeves with new parts, as necessary. The first SNPRM proposed to reduce the initial compliance time and repetitive inspection interval in the existing AD. The first SNPRM also proposed to mandate a terminating action for the repetitive inspections, to eliminate wire damage. In addition, the first SNPRM proposed to remove certain airplanes from the applicability of the existing AD. The first SNPRM was prompted by fleet information indicating that the repetitive inspection interval in the existing AD is too long, because excessive chafing of the sleeving continues to occur much earlier than expected between scheduled inspections. This action revises the first SNPRM by also proposing to require revising the maintenance program to incorporate changes to the airworthiness limitations section. We are proposing this second SNPRM to detect and correct chafing of the fuel pump wire insulation and consequent exposure of the electrical conductor, which could result in electrical arcing between the wires and conduit and consequent fire or explosion of the fuel tank. Since these actions impose an additional burden over that proposed in the first SNPRM, we are reopening the comment period to allow the public the chance to comment on these proposed changes.

DATES: We must receive comments on this proposed AD by April 22, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P. O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Rebel Nichols, Aerospace Engineer, Propulsion Branch, ANM-140S, FAA, Seattle Aircraft Certification Office, 1601 Lind Avenue SW., Renton, Washington 98057-3356; phone: 425-917-6509; fax: 425-917-6590; email: rebel.nichols@faa.gov.

SUPPLEMENTARY INFORMATION:

Comments Invited

We invite you to send any written relevant data, views, or arguments about this proposed AD. Send your comments to an address listed under the ADDRESSES section. Include “Docket No. FAA-2010-1160; Directorate Identifier 2010-NM-148-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued a supplemental notice of proposed rulemaking (SNPRM) to amend 14 CFR part 39 to supersede airworthiness directive (AD) 2000-11-06, Amendment 39-11754 (65 FR 34928, June 1, 2000; corrected August 1, 2000 (65 FR 46862)). That first SNPRM would apply to certain Model 767-200, -300, -300F, and -400ER series airplanes. The first SNPRM published in the Federal Register on July 2, 2012 (77 FR 39188). The first SNPRM proposed to continue to require repetitive inspections to detect discrepancies of the wiring and surrounding Teflon sleeves of the fuel tank boost pumps and override/jettison pumps; replacement of the sleeves with new sleeves, for certain airplanes; and repair or replacement of the wiring and sleeves with new parts, as necessary. The first SNPRM also proposed to reduce the initial compliance time and repetitive inspection interval in the existing AD, and remove certain airplanes from the applicability of the existing AD. In addition, the first SNPRM proposed to include a terminating action for the repetitive inspections, to eliminate wire damage.

Actions Since First SNPRM Was Issued

Since we issued the first SNPRM (77 FR 39188, July 2, 2012), we have reviewed the information specified in Airworthiness Limitation Instruction, Critical Design Configuration Control Limitations (CDCCL) Task 28-AWL-29, “In-Tank AC Fuel Pump Wire Bundles with Protective Liner;” and CDCCL Task 28-AWL-30, “Fuel Boost Pump Wires in Conduit Installation—In Fuel Tank;” of Section 9 of Boeing 767 Airworthiness Limitations (AWLs) and Certification Maintenance Requirements (CMRs), D622T001-9, Revision October 2012. We have determined it is necessary to revise the maintenance program to include these tasks in order to address the identified unsafe condition.

Comments

We gave the public the opportunity to participate in developing this AD. The following presents the comments received on the proposal (77 FR 39188, July 2, 2012), and the FAA's response to each comment.

Request To Change Terminating Action Requirement

Air Canada (ACN) asked that the terminating action mandated by the first SNPRM (77 FR 39188, July 2, 2012) be deemed optional. American Airlines (AAL) stated that after complying with the inspections in the first SNPRM, very little damage was found. AAL added that damage is confined to the outer sleeve beyond 44,400 flight hours, and the wiring damage does not occur until 17 years later when undisturbed. AAL concluded that, given its service experience, Boeing's service data and analysis and the proposed 15,000 flight-hour inspection interval, the terminating action should not be mandated. ACN provided no justification for its request.

We do not agree with the commenters. Mandating the terminating action is based on our determination that, in this case, long term continued operational safety would be better ensured by a modification to remove the source of the problem, rather than by repetitive inspections. As a matter of policy, we have determined that long-term inspections might not provide the degree of safety necessary for the transport airplane fleet. This determination has led us to consider placing less emphasis on inspections and more emphasis on design improvements. The modification is consistent with these conditions. Therefore, we have not changed the second SNPRM in this regard.

Request To Justify Existing Repetitive Inspection Interval

ACN stated that it would like the FAA to confirm that the new repetitive inspection interval proposed by Boeing is based on sufficient evidence and supported by proper risk analysis. ACN noted that the information should be specific to the Model 767 fleet and should justify such a drastic increase in the frequency of the repetitive inspection interval.

We agree to provide justification. Operators have reported finding chafing of the fuel pump wire bundle before the accumulation of 30,000 flight cycles or 60,000 flight hours. Wire bundle chafing could wear away the sleeving, jacket, and wire installation, in addition to exposing metal conductors and causing electrical arcing. Based on these reports, the design approval holder (DAH) recommended that the wiring inspection required by this proposed AD be done within 15,000 flight hours after doing the most recent inspection. The DAH also recommended not including flight cycles in the inspection interval. We analyzed their recommendations and agreed. The repetitive interval for the wiring inspection is within 15,000 flight hours after the most recent inspection until the terminating action has been done. We have not changed the second SNPRM in this regard.

Request To Correct Certain Paragraph Identifiers

United Airlines (UAL), Japan Airlines (JAL), and UPS asked that the paragraph identifiers referenced within certain paragraphs in the first SNPRM (77 FR 39188, July 2, 2012) be corrected. UAL, JAL, and UPS stated that those paragraph identifiers are incorrect and suggested changes. The suggested changes to the first SNPRM are as follows:

• The reference within paragraph (i)(2)(i)(C) that identifies paragraph (h)(2)(i)(D) should identify paragraph (i)(2)(i)(D).

• The reference within paragraph (i)(2)(i)(D) that identifies paragraph (h)(2) should identify paragraph (i)(2).

• The reference within paragraph (k) that identifies paragraph (l)(1) or (l)(2) should identify paragraph (k)(1) or (k)(2).

We agree with the commenters' requests for the reasons provided. We have changed those paragraphs identified above accordingly.

Request To Clarify Terminating Action

JAL asked that paragraph (g) be added to paragraph (l) of the first SNPRM (77 FR 39188, July 2, 2012), so that accomplishing the terminating action specified in Boeing Alert Service Bulletin 767-28A0104, Revision 1, dated March 2, 2012, applies to paragraphs (g) and (k) of the first SNPRM. JAL also asked that Boeing Alert Service Bulletin 767-28A0104, Revision 1, dated March 2, 2012, be added to paragraph (m) of the first SNPRM.

We agree to clarify the terminating action. We have changed the last sentence of paragraph (l) of this second SNPRM to read: “Accomplishing the replacement specified in this paragraph ends the repetitive inspection requirements in paragraphs (g) and (k) of this AD.” However, we have not changed paragraph (m) of this second SNPRM in this regard, because that paragraph gives credit for accomplishing the terminating action required by paragraph (l) of this second SNPRM, if the terminating action was done before the effective date of the AD using Boeing Alert Service Bulletin 767-28A0104, dated January 25, 2011.

Request To Reference Certain AD Paragraph

UAL stated that it reviewed Boeing Service Bulletin 767-28A0053, Revision 3, dated November 11, 2011, which contains a note that refers to paragraph (c)(2)(ii) of AD 2000-11-06, Amendment 39-11754 (65 FR 34928, June 1, 2000; corrected August 1, 2000 (65 FR 46862)). UAL suggested that the first SNPRM (77 FR 39188, July 2, 2012), provide information regarding the applicable equivalent paragraph in the superseding AD.

We acknowledge that Boeing Service Bulletin 767-28A0053, Revision 3, dated November 11, 2011, refers to paragraph (c)(2)(ii) of AD 2000-11-06, Amendment 39-11754 (65 FR 34928, June 1, 2000; corrected August 1, 2000 (65 FR 46862)). Paragraph (c)(2)(ii) of AD 2000-11-06 corresponds to paragraph (i)(2)(ii) of this second SNPRM. However, we do not agree with requiring a service information update, because the note which refers to paragraph (c)(2)(ii) of that service information will not adversely affect accomplishment of the required actions. We have not changed the second SNPRM in this regard.

Request To Clarify Certain Language in the “Comments” Section of the First SNPRM (77 FR 39188, July 2, 2012)

Boeing asked that the language in the “Comments” section of the preamble of the first SNPRM (77 FR 39188, July 2, 2012), which refers to Boeing Alert Service Bulletin 767-28A0104, Revision 1, dated March 2, 2012, including procedures for a wiring change, be clarified. Boeing stated that the language should emphasize that the procedures include the addition of a conduit liner and new wire bundle.

We acknowledge and agree with the commenter's request for clarification; however, the content of that section of the preamble of the first SNPRM (77 FR 39188, July 2, 2012) does not reappear in this second SNPRM. However, we have added the words “with a conduit liner” to paragraph (l) of this second SNPRM for clarification.

Request To Clarify Service Information

UAL requested that we reference new service information to address minor corrections for Boeing Alert Service Bulletin 767-28A0104, Revision 1, dated March 2, 2012. UAL noted that certain figure callouts should be revised.

We do not agree. Boeing has not yet issued a revised service bulletin. Accomplishing Boeing Alert Service Bulletin 767-28A0104, Revision 1, dated March 2, 2012, addresses the identified unsafe condition. If a new service bulletin is issued later, operators may request an alternative method of compliance (AMOC) in accordance with the procedures specified in paragraph (p) of this AD. We have not changed the second SNPRM in this regard.

Request to Increase Work-Hours

UAL asked that the work-hours specified in the “Costs of Compliance” section of the first SNPRM (77 FR 39188, July 2, 2012) be increased. UAL stated that the new proposed action in the first SNPRM specifies that it will take 33 work-hours per airplane; however, Boeing Alert Service Bulletin 767-28A0104, Revision 1, dated March 2, 2012, specifies 41.5 work-hours per airplane. UAL suggested increasing the work-hours to be consistent with the service information.

We agree with the commenter. The cost data that was included in the first SNPRM (77 FR 39188, July 2, 2012) has been updated. We have changed the total number of work-hours for the “new proposed action” in the “Costs of Compliance” section of this second SNPRM accordingly.

FAA's Determination

We are proposing this second supplemental NPRM because we evaluated all the relevant information and determined the unsafe condition described previously is likely to exist or develop in other products of the same type design. Certain changes described above expand the scope of the first SNPRM (77 FR 39188, July 2, 2012). As a result, we have determined that it is necessary to reopen the comment period to provide additional opportunity for the public to comment on this second SNPRM.

Proposed Requirements of the Second SNPRM

This second SNPRM would require repetitive inspections to detect discrepancies of the wiring and surrounding Teflon sleeves of the fuel tank boost pumps and override/jettison pumps; replacement of the sleeves with new sleeves, for certain airplanes; and repair or replacement of the wiring and sleeves with new parts, as necessary; a terminating action for the repetitive inspections, to eliminate wire damage. This second SNPRM also would require revising the maintenance program to incorporate changes to the airworthiness limitations section.

Costs of Compliance

We estimate that this proposed AD affects 414 airplanes of U.S. registry.

We estimate the following costs to comply with this proposed AD:

Estimated Costs
Action | Labor cost | Parts cost | Cost per product | Cost on U.S. operators
Actions for airplanes with jettison pumps, required by AD 2000-11-06, Amendment 39-11754 (65 FR 34928, June 1, 2000; corrected August 1, 2000 (65 FR 46862)) | 7 work-hours × $85 per hour = $595 per inspection cycle | None | $595 per inspection cycle | Up to $246,330 per inspection cycle.
Actions for airplanes without jettison pumps, required by AD 2000-11-06 Amendment 39-11754 (65 FR 34928, June 1, 2000; corrected August 1, 2000 (65 FR 46862)) | 5 work-hours × $85 per hour = $425 per inspection cycle | None | $425 per inspection cycle | Up to $175,950 per inspection cycle.
New proposed action: Replace existing wire bundles with new wire bundles | 42 work-hours × $85 per hour = $3,570 | $6,061 | $9,631 | $3,987,234.
New proposed revision to maintenance program | 1 work-hour × $85 per hour = $85 | None | $85 | $35,190.

We estimate the following costs to do any necessary repairs that would be required based on the results of the inspections. We have no way of determining the number of aircraft that might need these repairs:

On-Condition Costs
Action | Labor cost | Parts cost | Cost per product
Replace wire bundle sleeves if damage found during inspections | 1 work hour × $85 per hour = $85 | $1,452 | $1,537.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2000-11-06, Amendment 39-11754 (65 FR 34928, June 1, 2000; corrected August 1, 2000 (65 FR 46862)), and adding the following new AD:

The Boeing Company: Docket No. FAA-2010-1160; Directorate Identifier 2010-NM-148-AD.

(a) Comments Due Date

The FAA must receive comments on this AD action by April 22, 2013.

(b) Affected ADs

This AD supersedes AD 2000-11-06, Amendment 39-11754 (65 FR 34928, June 1, 2000; corrected August 1, 2000 (65 FR 46862)).

(c) Applicability

(1) This AD applies to The Boeing Company Model 767-200, -300, -300F, and -400ER series airplanes, certificated in any category, as identified in Boeing Service Bulletin 767-28A0053, Revision 3, dated November 11, 2011.

(2) This AD requires revisions to certain operator maintenance documents to include new actions (e.g., inspections) and/or Critical Design Configuration Control Limitations (CDCCLs). Compliance with these actions and/or CDCCLs is required by 14 CFR 91.403(c). For airplanes that have been previously modified, altered, or repaired in the areas addressed by this AD, the operator may not be able to accomplish the actions described in the revisions. In this situation, to comply with 14 CFR 91.403(c), the operator must request approval for an alternative method of compliance according to paragraph (p) of this AD. The request should include a description of changes to the required actions that will ensure the continued operational safety of the airplane.

(d) Subject

Air Transport Association (ATA) of America Code 28: Fuel.

(e) Unsafe Condition

This AD was prompted by fleet information indicating that the repetitive inspection interval in the existing AD is too long because excessive chafing of the sleeving continues to occur much earlier than expected between scheduled inspections. We are issuing this AD to detect and correct chafing of the fuel pump wire insulation and consequent exposure of the electrical conductor, which could result in electrical arcing between the wires and conduit and consequent fire or explosion of the fuel tank.

(f) Compliance

You are responsible for having the actions required by this AD performed within the compliance times specified, unless the actions have already been done.

(g) Retained Repetitive Inspections

This paragraph restates the requirements of paragraph (a) of AD 2000-11-06, Amendment 39-11754 (65 FR 34928, June 1, 2000; corrected August 1, 2000 (65 FR 46862)), with revised service information. Perform a detailed visual inspection to detect discrepancies—including the presence of cuts, splits, holes, worn areas, and lacing ties installed on the outside of the sleeves (except at the sleeve ends)—of the Teflon sleeves surrounding the wiring of the fuel tank boost pumps and override/jettison pumps, at the earlier of the times specified in paragraphs (g)(1) and (g)(2) of this AD, in accordance with Boeing Service Bulletin 767-28A0053, Revision 1, dated August 5, 1999; Boeing Alert Service Bulletin 767-28A0053, Revision 2, dated June 24, 2010; or Boeing Service Bulletin 767-28A0053, Revision 3, dated November 11, 2011. Repeat the inspection thereafter at intervals not to exceed 60,000 flight hours or 30,000 flight cycles, whichever occurs first. As of the effective date of this AD, only Boeing Service Bulletin 767-28A0053, Revision 3, dated November 11, 2011, may be used to do the actions required by this paragraph.

(1) Prior to the accumulation of 50,000 total flight hours, or within 90 days after July 6, 2000 (the effective date of AD 2000-11-06, Amendment 39-11754 (65 FR 34928, June 1, 2000; corrected August 1, 2000 (65 FR 46862)), whichever occurs later.

(2) Within 18 months after July 6, 2000 (the effective date of AD 2000-11-06, Amendment 39-11754 (65 FR 34928, June 1, 2000; corrected August 1, 2000 (65 FR 46862)).

(h) Retained Corrective Actions

This paragraph restates the requirements of paragraph (b) of AD 2000-11-06, Amendment 39-11754 (65 FR 34928, June 1, 2000; corrected August 1, 2000 (65 FR 46862)), with revised service information. If any discrepancy is detected during any inspection required by paragraph (g) of this AD: Prior to further flight, remove the Teflon sleeves and perform a detailed visual inspection to detect damage of the wiring, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(1) If no damage to the wiring is detected, prior to further flight, install new Teflon sleeves, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(2) If any damage to the wiring is detected, prior to further flight, accomplish the requirements of paragraph (i) of this AD.

(i) Retained Corrective Actions

This paragraph restates the requirements of paragraph (c) of AD 2000-11-06, Amendment 39-11754 (65 FR 34928, June 1, 2000; corrected August 1, 2000 (65 FR 46862)), with revised service information. If any damage to the wiring is detected during any inspection required by paragraph (h) of this AD: Prior to further flight, perform a detailed visual inspection to determine if the wiring damage was caused by arcing, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(1) If the wire damage was not caused by arcing: Prior to further flight, repair any damaged wires or replace the wires with new or serviceable wires, as applicable, and install new Teflon sleeves, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(2) If any damage caused by arcing is found: Prior to further flight, perform an inspection for signs of fuel inside the conduit or on the wires, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(i) If no sign of fuel is found, accomplish the actions specified in paragraphs (i)(2)(i)(A), (i)(2)(i)(B), (i)(2)(i)(C), and (i)(2)(i)(D) of this AD.

(A) Prior to further flight, repair the wires or replace the wires with new or serviceable wires, as applicable, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(B) Prior to further flight, install new Teflon sleeves, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(C) Repeat the inspection for signs of fuel inside the conduit thereafter at intervals not to exceed 500 flight hours, until the requirements of paragraph (i)(2)(i)(D) of this AD have been accomplished. If any fuel is found inside the conduit during any inspection required by this paragraph, prior to further flight, replace the conduit with a new or serviceable conduit in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. Thereafter, repeat the inspection specified in paragraph (g) of this AD at intervals not to exceed 60,000 flight hours or 30,000 flight cycles, whichever occurs first. As of the effective date of this AD, only Boeing Service Bulletin 767-28A0053, Revision 3, dated November 11, 2011, may be used to do the actions required by this paragraph.

(D) Within 6,000 flight hours or 18 months after the initial fuel inspection specified by paragraph (i)(2) of this AD, whichever occurs first, replace the conduit with a new or serviceable conduit, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. Such conduit replacement constitutes terminating action for the repetitive fuel inspections required by paragraph (i)(2)(i)(C) of this AD. As of the effective date of this AD, only Boeing Service Bulletin 767-28A0053, Revision 3, dated November 11, 2011, may be used to do the actions required by this paragraph.

(ii) If any fuel is found in the conduit or on any wire: Prior to further flight, replace the conduit with a new or serviceable conduit, replace damaged wires with new or serviceable wires, and install new Teflon sleeves; in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. Thereafter, repeat the inspection specified in paragraph (g) of this AD at intervals not to exceed 60,000 flight hours or 30,000 flight cycles, whichever occurs first. As of the effective date of this AD, only Boeing Service Bulletin 767-28A0053, Revision 3, dated November 11, 2011, may be used to do the actions required by this paragraph.

(j) Retained Pump Retest

This paragraph restates the requirements of paragraph (d) of AD 2000-11-06, Amendment 39-11754 (65 FR 34928, June 1, 2000; corrected August 1, 2000 (65 FR 46862)), with revised service information. For any wire bundle removed and reinstalled during any inspection required by this AD: Prior to further flight after such reinstallation, retest the fuel pump in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(k) New Repetitive Inspections With Reduced Inspection Intervals

Do the inspection required by paragraph (g) of this AD at the time specified in paragraph (k)(1) or (k)(2) of this AD, as applicable, in accordance with the Accomplishment Instructions of Boeing Service Bulletin 767-28A0053, Revision 3, dated November 11, 2011. Repeat the inspection thereafter at intervals not to exceed 15,000 flight hours. Accomplishing the first inspection in this paragraph ends the repetitive inspection requirements in paragraph (g) of this AD.

(1) For airplanes on which the inspection required by paragraph (g) of this AD has been done as of the effective date of this AD: Do the inspection within 15,000 flight hours after the most recent inspection or within 6,000 flight hours after the effective date of this AD, whichever occurs later, but not to exceed 60,000 flight hours after the most recent inspection required by paragraph (g) of this AD.

(2) For airplanes on which the inspection required by paragraph (g) of this AD has not been done as of the effective date of this AD: Do the inspection before the accumulation of 15,000 total flight hours or within 6,000 flight hours after the effective date of this AD, whichever occurs later.

(l) New Terminating Action

Within 60 months after the effective date of this AD: Replace the fuel boost pump and override/jettison pump wire bundles inside the in-tank electrical conduit with a conduit liner and new wire bundles, in accordance with the Accomplishment Instructions of Boeing Alert Service Bulletin 767-28A0104, Revision 1, dated March 2, 2012. Accomplishing the replacement specified in this paragraph ends the repetitive inspection requirements in paragraphs (g) and (k) of this AD.

(m) Credit for Previous Actions

This paragraph provides credit for the actions required by paragraph (l) of this AD, if those actions were performed before the effective date of this AD using Boeing Alert Service Bulletin 767-28A0104, dated January 25, 2011.

(n) New Maintenance Program Revision

Within 180 days after the effective date of this AD: Revise the maintenance program to incorporate CDCCL Task 28-AWL-29, “In-Tank AC Fuel Pump Wire Bundles With Protective Liner;” and CDCCL Task 28-AWL-30, “Fuel Boost Pump Wires in Conduit Installation—In Fuel Tank;” of Section 9, of Boeing 767 Airworthiness Limitations (AWLs) and Certification Maintenance Requirements (CMRs), of the Boeing 767 Maintenance Planning Data (MPD) Document, D622T001-9, Revision October 2012.

(o) No Alternative Actions, Intervals, and/or CDCCLs

After accomplishing the revision required by paragraph (n) of this AD, no alternative actions (e.g., inspections), intervals, and/or CDCCLs may be used unless the actions, intervals, and/or CDCCLs are approved as an alternative method of compliance in accordance with the procedures specified in paragraph (p) of this AD.

(p) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously in accordance with AD 2000-11-06, Amendment 39-11754 (65 FR 34928, June 1, 2000; corrected August 1, 2000 (65 FR 46862)), are approved as AMOCs with the corresponding requirements of this AD. Compliance time extensions approved previously in accordance with AD 2000-11-06 are not approved as AMOCs for the compliance times required by paragraph (k) of this AD.

(q) Related Information

(1) For more information about this AD, contact Rebel Nichols, Aerospace Engineer, Propulsion Branch, ANM-140S, FAA, Seattle Aircraft Certification Office, 1601 Lind Avenue SW., Renton, Washington 98057-3356; phone: 425-917-6509; fax: 425-917-6590; email: rebel.nichols@faa.gov.

(2) For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Issued in Renton, Washington, February 26, 2013.
Ali Bahrami,
Manager, Transport Airplane Directorate, Aircraft Certification Service.

[FR Doc. 2013-05295 Filed 3-7-13; 8:45 am]

BILLING CODE 4910-13-P